NATIONAL TRANSPORTATION SAFETY BOARD

Plan for Generic Information Collection Activity: Submission for OMB Review; Comment Request

AGENCY: National Transportation Safety Board (NTSB).

ACTION: Notice.

SUMMARY: The NTSB is announcing it is submitting a plan for an Information Collection Request (ICR) to the Office of Management and Budget (OMB) for approval, in accordance with the Paperwork Reduction Act. This ICR Plan describes various questionnaires the NTSB plans to use to obtain feedback from witnesses who observe crashes, accidents, and/or incidents in all modes of transportation. Feedback from such witnesses, including those who are survivors of crashes and accidents, is important to the NTSB in fulfilling its obligation of determining the probable cause of transportation events, and in recommending changes to mitigate the effects of future transportation events. This Notice informs the public that it may submit to the NTSB comments concerning the agency's proposed plan for information collection.

DATES: Submit written comments regarding this proposed plan for the collection of information by November 18, 2013.

ADDRESSES: Respondents may submit written comments on the collection of information to the National Transportation Safety Board, Office of General Counsel, 490 East L'Enfant Plaza SW., Washington, DC 20594.

FOR FURTHER INFORMATION CONTACT: David Tochen, NTSB General Counsel, at (202) 314-6080.

SUPPLEMENTARY INFORMATION: In accordance with OMB regulations that require this Notice for proposed ICRs, as well as OMB guidance concerning generic approval of plans for information collections, the NTSB herein notifies the public that it may submit comments on this proposed ICR to the NTSB. 5 CFR 1320.10(a). Section 1320.10(a) requires this “notice directing requests for information, including copies of the proposed collection of information and supporting documentation, to the [NTSB].” Pursuant to § 1320.10(a), the NTSB will provide a copy of this notice to OMB.

A. NTSB Witness and Passenger Questionnaires Are Appropriate for Generic Approval

On May 28, 2010, Administrator, Office of Information and Regulatory Affairs (OIRA), OMB, issued a memorandum to the Heads of Executive Departments and Agencies, and Independent Regulatory Agencies, providing instructions concerning how agencies can obtain generic OMB clearances for information collections in certain circumstances. Paperwork Reduction Act—Generic Clearances, available at http://www.whitehouse.gov/sites/default/files/omb/assets/inforeg/PRA_Gen_ICRs_5-28-2010.pdf. The memorandum states as follows concerning the appropriateness of obtaining such clearances:

A generic ICR is a request for OMB approval of a plan for conducting more than one information collection using very similar methods when (1) the need for and the overall practical utility of the data collection can be evaluated in advance, as part of the review of the proposed plan, but (2) the agency cannot determine the details of the specific individual collections until a later time.

The NTSB's need to obtain information immediately following a transportation event it is investigating under 49 U.S.C. 1131 is critical. When numerous witnesses observe a transportation crash, accident or incident, the most effective and timely manner in which the NTSB can obtain first-hand observations is via distributing questionnaires to all witnesses the NTSB can locate.

This type of information collection is appropriate for generic approval under the applicable OMB guidance. Based on its investigation of previous transportation events, the NTSB can attest to the utility and value of collecting information via witness questionnaires. By distributing such questionnaires, the NTSB will gather information concerning where the witness was located at the time of the event, whether the witness needed medical attention, and what type of assistance the witness may have received during and immediately following the event. Responses to such questions may help the NTSB in determining the probable cause of the accident or incident, and will likely also assist the NTSB in issuing safety recommendations to mitigate the effects of future transportation mishaps and may help ensure the effectiveness of its family assistance activities.

The NTSB tailors each questionnaire to ensure it requests information specific to the particular event the NTSB is investigating. Consistent with the OMB guidance concerning generic approvals, the NTSB will not be able to finalize draft questionnaires specific to each accident or incident until the event has occurred. Often, questionnaires include a diagram of the aircraft, rail car, bus, vessel, or other vehicle involved in the event, and requests the respondent pinpoint his or her location by drawing on the diagram. In addition, the questionnaire may include questions concerning life preservers or other safety devices and equipment or other evacuation aspects specific to over-water events, if the accident or incident involved such a circumstance. These types of questions are obviously unique to the specific investigation, and impossible to know prior to the occurrence of the accident or incident. Overall, the types of information the NTSB will solicit in its witness questionnaires is appropriate for a generic approval for the information collection.

B. Supporting Statement

The applicable OMB memorandum instructs agencies to provide specific information in the supporting statements describing the information collections. In particular, the supporting statements should include the following:

• The method of collection and, if statistical methods will be used, a discussion of the statistical methodology;

• The category (or categories) of respondents;

• The estimated “burden cap,” i.e., the maximum number of burden hours (per year) for the specific information collections, and against which burden will be charged for each collection actually used;

• The agency's plans for how it will use the information collected;

• The agency's plans to obtain public input regarding the specific information collections (i.e., consultation); and

• The agency's internal procedures to ensure that the specific collections comply with the PRA, applicable regulations, and the terms of the generic clearance.

Id. at 2.

1. Method of Collection

The NTSB will collect the information by transmitting the questionnaire to witnesses of the event, including surviving passengers. Depending on the circumstances, such transmission may occur via hand delivery, electronic mail, postal mail, or express mail, or a combination of methods. Respondents will be provided instructions concerning how to return questionnaires to the NTSB investigator who distributed them. The NTSB may create an electronic system on its Web page that provides the agency with the ability to verify whether the respondent was a passenger or a witness to the event. If the NTSB is able to create such a system, the agency may elect to request respondents log in and complete an electronic, web-based questionnaire. While such a system is not available at present, the NTSB nevertheless notes this idea, in case it creates and utilizes such a system in the future.

The NTSB will not use statistical methodology in reaching any conclusions based on the questionnaires. Instead, the NTSB merely will note the total number of respondents in any factual reports for which it uses the questionnaires.

Respondents'completion of the questionnaire is voluntary, and the NTSB generally will not contact them more than once to request completion of the questionnaire.

2. Category of Respondents

In its questionnaires, the NTSB will generally seek information from two categories of respondents: eyewitnesses who were not passengers of the conveyance involved in the transportation accident or incident; and witnesses who were onboard as passengers of the conveyance involved. In most cases, the NTSB will distribute the questionnaires to passengers, as NTSB investigators often interview eyewitnesses verbally at the site of an accident or incident, rather than soliciting information from them on a written instrument. However, in some cases, the NTSB may become aware of the existence of many people who observed the transportation event, and therefore choose to solicit information from them on a questionnaire, rather than attempting to interview each eyewitness personally. Therefore, the majority of people to whom the NTSB will distribute the questionnaires will be passengers who survived the transportation event.

3. Maximum Burden Hours

In its 2012 Annual Report to Congress, the NTSB stated it launched on eight major accidents and 252 regional or “field” accidents.¹ The NTSB will most likely distribute the questionnaires to passengers involved in, and/or witnesses who observe, major accidents. Some NTSB regional investigations may require use of the questionnaires, but often, fewer passengers and/or witnesses will observe regional accidents and therefore be able to offer feedback on a questionnaire. As a result, in general, the NTSB estimates it may use a questionnaire for approximately half of its regional accident launches, which would total 130 accident investigations. Of these investigations, the NTSB may request information on the questionnaire from approximately 10 passengers and/or witnesses, to reach a total of 1,300 individuals who may receive a questionnaire.

¹ National Transportation Safety Board 2012 Annual Report to Congress, available at http://www.ntsb.gov/doclib/agency_reports/2012Annual%20Report.pdf.

The NTSB seeks to emphasize these estimations are approximate, as they are depend on the number of accidents or incidents that occur, and how many passengers and/or witnesses may be available to complete the questionnaire. For example, in 2012, the NTSB did not launch to investigate any major aviation accidents. However, in July 2013, the NTSB sent a team to investigate the crash landing of Asiana flight 214, and thereafter received emergency approval from OIRA to send a questionnaire to each of the 288 surviving passengers. Likewise, the NTSB conducts investigations into accidents and incidents involving other modes of transportation, and the frequency of such investigations is unpredictable. The unpredictable nature of transportation accidents and the impossibility of determining in advance how many witnesses and/or passengers might be available to provide the NTSB with information indicates the NTSB's estimations concerning annual burden hours are approximate.

4. Use of the Information Collected

Witnesses' and passengers' input concerning their recollections of the events preceding, during, and immediately following the transportation accident or incident are extremely important to the NTSB. The NTSB creates discipline-specific “groups” for each investigation, and such groups are tasked with investigating a specific aspect of the transportation event. Often, the NTSB creates a survival factors group, which investigates how the circumstances of an accident or incident affected the likelihood of passengers and crewmembers surviving the event. This group also examines what, if any, changes could occur to improve the likelihood of survival and/or mitigate the effects of the accident or incident.

In practical terms, the NTSB uses the information it collects in completed questionnaires by identifying trends in responses to the questions on the questionnaires. For example, if a majority of respondents indicate they experienced hardship in evacuating an aircraft, rail car, bus, vessel, or other vehicle following an accident due to problems with the evacuation route or emergency door, the NTSB would note this data in its factual report summarizing the questionnaires. The NTSB may then utilize this identification of the trend to make a safety recommendation to improve evacuation methods and thereby improve transportation safety and likelihood of survival. Similarly, if a majority of respondents who are eyewitnesses to a transportation accident or incident report observing a specific unusual aspect immediately prior to the transportation event, this information may assist the NTSB with determining the probable cause of the accident or incident. For example, eyewitnesses who complete a questionnaire and state they observed smoke from a train's engine or from a specific part of an aircraft before a crash can provide information to help the NTSB focus its investigation and determine the probable cause.

Overall, the information the NTSB will receive from completed questionnaires is important to the NTSB. The NTSB will use the information to improve transportation by determining the probable cause of the accident or incident, mitigating the effects of the accident or incident, issuing safety recommendations, fulfilling its family assistance responsibilities, or all of these activities.

5. Public Input Regarding the Information Collected

The NTSB does not generally obtain public input concerning the scope of, or specific questions on, the witness or passenger questionnaires it uses. However, the NTSB utilizes a party process for each accident investigation.² Through this process, NTSB investigators who seek to use a witness and/or passenger questionnaire to obtain information from witnesses and/or passengers may consult with party participants who are assisting with the investigation, and gather input to improve the questionnaire. If an NTSB investigator believes a party participant's feedback would improve the questionnaire concerning a particular question, the investigator may change the questionnaire and recommend this change be retained for future investigations. Overall, the NTSB engages in consultation with party participants, in the interest of improving the questionnaire.

² See 49 CFR 831.11; see also NTSB Aviation Investigation Manual, Major Team Investigations (Nov. 2002), available at http://www.ntsb.gov/doclib/manuals/MajorInvestigationsManual.pdf.

6. Internal Procedures

Lastly, the OMB memorandum describing generic clearances recommends agencies describe the procedures it will undertake to ensure information collections to which the generic clearance applies will comply with the Paperwork Reduction Act, applicable regulations, and the terms provided in the generic clearance. The NTSB Office of General Counsel plans to provide internal guidance to agency personnel, consisting of this publication, as well as the OMB memorandum discussing generic clearances, once upon OMB approval of the clearance. The internal guidance will include specific instructions concerning use of witness and passenger questionnaires, and explain the applicable provisions of the Paperwork Reduction Act and its implementing regulations. The NTSB will also ensure its modal office directors are aware of the generic clearance, and its terms, and direct investigators to contact the NTSB Office of General Counsel to coordinate the dissemination of witness and/or passenger questionnaires. Given the small size of the NTSB, the agency believes it will be able to communicate the terms of compliance with the Paperwork Reduction Act to all investigators who may need to solicit feedback from witnesses and/or passengers via questionnaires.

C. Description of Burden

The NTSB has carefully reviewed previous questionnaires it has used to obtain information from witnesses and passengers. The NTSB assures the public that these questionnaires have used plain, coherent, and unambiguous terminology in its requests for information. In addition, the questionnaires are not duplicative of other agencies' collections of information, because in most instances, the NTSB, by statute, maintains priority over other agencies during a transportation accident investigation; therefore, any information collection that another agency might undertake must be approved in advance by the NTSB investigator-in-charge (IIC). The IIC would not approve an information collection that is duplicative of the witness/passenger questionnaire when the NTSB has already sought feedback on the questionnaire.

In general, the NTSB believes the questionnaires will impose a minimal burden on respondents: the NTSB estimates that each respondent will spend approximately 30 to 45 minutes in completing the questionnaire. The NTSB estimates that a maximum of 650 respondents per year would complete a questionnaire. Although the NTSB may distribute questionnaires to perhaps as many as 1,300 people, historic response rates indicate only 50 percent of the questionnaires will be returned completed. However, the NTSB again notes this number will vary, given the unpredictable nature of the frequency of transportation accidents.

D. Request for Comments

In accordance with 44 U.S.C. 3506(c)(2)(A), the NTSB seeks feedback from the public concerning this proposed plan for information collection. In particular, the NTSB asks the public to evaluate whether the proposed collection of information is necessary; to assess the accuracy of the NTSB's burden estimate; to comment on how to enhance the quality, utility, and clarity of the information to be collected; and to comment on how the NTSB might minimize the burden of the collection of information.

The NTSB will carefully consider all feedback it receives in response to this notice. As described above, obtaining the information the NTSB seeks on these questionnaires in a timely manner is important to NTSB investigations; therefore, obtaining approval from OIRA for these collections of information on a generic basis is a priority for the NTSB.

Deborah A.P. Hersman,
Acting Chairman.

[FR Doc. 2013-22636 Filed 9-18-13; 8:45 am]

BILLING CODE 7533-01-P